DEPARTMENT OF ENERGY

Federal Energy Regulatory Commission

[Docket No. RP04-136-003]

Iroquois Gas Transmission System, L.P.; Notice of Compliance Filing

May 7, 2004.

Take notice that on May 5, 2004, Iroquois Gas Transmission System, L.P. (Iroquois) tendered for filing as part of its FERC Gas Tariff, First Revised Volume No. 1, Substitute Original Sheet No. 4C, to be effective on July 1, 2004.

Iroquois states that the revised tariff sheet is submitted in compliance with the Paragraph 13 and Ordering Paragraph (A) of the Commission's April 20, 2004 order in the above captioned proceeding.

Iroquois further states that the revised tariff sheet provides that Eastchester Shippers, shall pay applicable rate adjustments on Sheet No. 4A, but will not pay any such assessment more than once for a single transaction.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1148 Filed 5-12-04 8:45 am]

BILLING CODE 6717-01-P